DEPARTMENT OF HEALTH AND HUMAN SERVICES

Centers for Disease Control and Prevention

[60Day-21-1092; Docket No. CDC-2021-0091]

Proposed Data Collection Submitted for Public Comment and Recommendations

AGENCY: Centers for Disease Control and Prevention (CDC), Department of Health and Human Services (HHS).

ACTION: Notice with comment period.

SUMMARY: The Centers for Disease Control and Prevention (CDC), as part of its continuing effort to reduce public burden and maximize the utility of government information, invites the general public and other Federal agencies the opportunity to comment on a proposed and/or continuing information collection, as required by the Paperwork Reduction Act of 1995. This notice invites comment on a proposed information collection project titled Sudden Death in the Young (SDY). The goal of the SDY Case Registry is to improve and standardize the ascertainment of deaths so that funded jurisdictions can better understand the incidence and risk factors for sudden death in youth. Per CDC's cooperative agreement, respondents agree to compile a defined set of SDY information about a defined subset of child deaths through the jurisdiction/state's existing CDR program.

DATES: CDC must receive written comments on or before November 8, 2021.

ADDRESSES: You may submit comments, identified by Docket No. CDC-2021-0091 by any of the following methods:

• Federal eRulemaking Portal: Regulations.gov. Follow the instructions for submitting comments.

• Mail: Jeffrey M. Zirger, Information Collection Review Office, Centers for Disease Control and Prevention, 1600 Clifton Road NE, MS-D74, Atlanta, Georgia 30329.

Instructions: All submissions received must include the agency name and Docket Number. CDC will post, without change, all relevant comments to Regulations.gov.

Please note: Submit all comments through the Federal eRulemaking portal (regulations.gov) or by U.S. mail to the address listed above.

FOR FURTHER INFORMATION CONTACT: To request more information on the proposed project or to obtain a copy of the information collection plan and instruments, contact Jeffrey M. Zirger, Information Collection Review Office, Centers for Disease Control and Prevention, 1600 Clifton Road NE, MS-D74, Atlanta, Georgia 30329; phone: 404-639-7118; Email: omb@cdc.gov.

SUPPLEMENTARY INFORMATION: Under the Paperwork Reduction Act of 1995 (PRA) (44 U.S.C. 3501-3520), Federal agencies must obtain approval from the Office of Management and Budget (OMB) for each collection of information they conduct or sponsor. In addition, the PRA also requires Federal agencies to provide a 60-day notice in the Federal Register concerning each proposed collection of information, including each new proposed collection, each proposed extension of existing collection of information, and each reinstatement of previously approved information collection before submitting the collection to the OMB for approval. To comply with this requirement, we are publishing this notice of a proposed data collection as described below.

The OMB is particularly interested in comments that will help:

1. Evaluate whether the proposed collection of information is necessary for the proper performance of the functions of the agency, including whether the information will have practical utility;

2. Evaluate the accuracy of the agency's estimate of the burden of the proposed collection of information, including the validity of the methodology and assumptions used;

3. Enhance the quality, utility, and clarity of the information to be collected;

4. Minimize the burden of the collection of information on those who are to respond, including through the use of appropriate automated, electronic, mechanical, or other technological collection techniques or other forms of information technology, e.g., permitting electronic submissions of responses; and

5. Assess information collection costs.

Proposed Project

Sudden Death in the Young (SDY) (OMB Control No. 0920-1092, Exp. 04/30/2022)—Extension—National Center for Chronic Disease Prevention and Health Promotion (NCCDPHP), Centers for Disease Control and Prevention (CDC)

Background and Brief Description

Estimates of the annual incidence of sudden death in the young (SDY) vary broadly due to differences in case definitions, inconsistencies in classifying cause of death (on death certificates), study populations, and case ascertainment. To address the need for improved estimates of SDY incidence, and its epidemiology based on uniform cases definitions, CDC, in collaboration with NIH's National Heart, Lung, and Blood Institute (NHLBI) and National Institute of Neurological Disorders and Stroke (NINDS), implemented the SDY Case Registry in 2015. To meet the ongoing need to produce accurate and uniform information, CDC and NIH continued the SDY Case Registry in 2018 with 13 awardees through a CDC-based cooperative agreement program (DP18-1806).

CDC awardees agree to compile a defined set of SDY information about a defined subset of child deaths through the jurisdiction/state's existing CDR program. Each of the 13 CDC-funded jurisdiction/state awardees will, on average, review and enter data on 55 of 720 cases each year. Additionally, based on historical program information, it is estimated that approximately half (360) of the 720 estimated SDY cases each year will be recommended for advanced clinical review by a team of three medical experts.

OMB approval is requested for three years. The total estimated annual burden is 511 hours. There are no costs to respondents other than their time.

Estimated Annualized Burden Hours
Type of respondent | Form name | Number of respondents | Number of responses per respondent | Average burden per response (in hours) | Total burden hours
State health personnel | SDY Module I | 13 | 55 | 10/60 | 119
Medical Expert | Advanced Review | 39 | 28 | 15/60 | 273
State Health Personnel | SDY Module N | 13 | 55 | 10/60 | 119
Total hours |  |  |  |  | 511

Jeffrey M. Zirger,
Lead, Information Collection Review Office, Office of Scientific Integrity, Office of Science, Centers for Disease Control and Prevention.

[FR Doc. 2021-19163 Filed 9-3-21; 8:45 am]

BILLING CODE 4163-18-P